DEPARTMENT OF LABOR

Employment and Training Administration

[NAFTA-7655]

NSI Communications, U.S. Broadband Division, San Diego, CA; Notice of Termination of Investigation

Pursuant to Title V of the North American Free Trade Agreement Implementation Act (Pub. L. 103-182) concerning transitional adjustment assistance, hereinafter called NAFTA-TAA and in accordance with section 250(a), subchapter D, chapter 2, Title II, of the Trade Act of 1974, as amended (19 U.S.C. 2273), an investigation was initiated on September 23, 2002 in response to a petition filed on behalf of workers at NSI Communications, U.S. Broadband Division, San Diego, California.

The Department has been unable to locate an official of the NSI Communications to obtain the information necessary to render a determination on worker group eligibility. Consequently, further investigation in this case would serve no purpose, and the investigation has been terminated.

Signed in Washington, DC, this 27th day of January, 2003.
Linda G. Poole,
Certifying Officer, Division of Trade Adjustment Assistance.

[FR Doc. 03-4297 Filed 2-21-03; 8:45 am]

BILLING CODE 4510-30-P